DEPARTMENT OF HEALTH AND HUMAN SERVICES

Administration on Aging

Announcement of Tribal Consultation With American Indian/Alaskan Native Tribal Representatives

The Department of Health and Human Services policy on consultation with American Indian/Alaska Native (AI/AN) Governments and Organizations calls for each Operating Division to convene a meeting with AI/AN Tribal Representatives.

In accordance with Departmental policy on Tribal Consultation with AI/AN Governments and Organizations, the Administration on Aging will be hosting a one-day session to give AI/AN Tribal Representatives and their Title VI Director an opportunity to discuss Indian elder issues related to (1) infrastructure; (2) long term care; and (3) the Older Americans Act Regulations. Participants will have an opportunity to present their recommendations to the Assistant Secretary for Aging.

This Tribal Listening Session will be held from 9 am to 4 pm on August 15, 2001 at: Department of Health and Human Services; Hubert Humphrey Building; 200 Independence Avenue, SW., Washington, DC 20201.

A final agenda will be distributed at the meeting.

To register and for additional information please contact: M. Yvonne Jackson, Ph.D., Director, Office for American Indian, Alaskan Native and Native Hawaiian Programs, Administration on Aging, 330 Independence Ave., SW., Washington, DC 20201, (202) 619-2713, Email: Yvonne.Jackson@aoa.gov.

In accordance with the provisions of the Americans with Disabilities Act (ADA), it is requested that any special assistance requirements be requested within seventy-two (72) hours of the scheduled Tribal Listening Session.

Purpose: In accordance with Departmental policy on consultation with (AI/AN) Governments and Organizations, AoA will host this meeting to give AI/AN Tribal Representatives an opportunity to discuss the above-mentioned areas and develop recommendations to present to the Assistant Secretary for Aging.

Date and Time: August 15, 2001, 9 am-4 pm est.

Matters to be Discussed: The agenda will include opening remarks and break-out sessions to discuss Infrastructure and Long Term Care, a general session to share results from the breakout sessions, open mike to discuss the Older Americans Act Regulations and closing remarks.

If you are unable to attend but wish to provide comments or Tribal Resolutions, these may be faxed to M. Yvonne Jackson's attention at (202) 260-1012.

Dated: July 16, 2001.
Norman L. Thompson,
Acting Principal Deputy Assistant Secretary for Aging.

[FR Doc. 01-18136 Filed 7-19-01; 8:45 am]

BILLING CODE 4154-01-P